DEPARTMENT OF ENERGY

Federal Energy Regulatory Commission

Combined Notice of Filings #1

April 18, 2006.

Take notice that the Commission received the following electric rate filings.

Docket Numbers: ER03-478-011.

Applicants: PPM Energy, Inc.

Description: PPM Energy, Inc. submits its motion to terminate refund liability to reflect PPM's recent corporate disaffiliation with PacifiCorp.

Filed Date: April 10, 2006.

Accession Number: 20060417-0205.

Comment Date: 5 p.m. Eastern Time on Monday, May 1, 2006.

Docket Numbers: ER06-20-002.

Applicants: Louisville Gas & Electric Company.

Description: LG&E Energy, LLC submits revisions to its proposed open-access transmission tariff to implement the “hold harmless commitment” under the MISO Transmission Owner Agreement etc., pursuant to March 17, 2006 order.

Filed Date: April 11, 2006.

Accession Number: 20060417-0225.

Comment Date: 5 p.m. Eastern Time on Tuesday, May 2, 2006.

Docket Numbers: ER06-278-003.

Applicants: The Nevada Hydro Company, Inc.

Description: Nevada Hydro Company, Inc. submits a supplemental response to FERC's February 17, 2006 request for additional information.

Filed Date: April 7, 2006.

Accession Number: 20060417-0190.

Comment Date: 5 p.m. Eastern Time on Friday, April 28, 2006.

Docket Numbers: ER06-313-000.

Applicants: Midwest Independent Transmission System Operator, Inc.

Description: Midwest Independent Transmission System Operator, Inc. submits an informational filing regarding suspension of the monthly financial transmission rights auction for June 2006, et al.

Filed Date: April 11, 2006.

Accession Number: 20060413-0142.

Comment Date: 5 p.m. Eastern Time on Tuesday, May 2, 2006.

Docket Numbers: ER06-561-001.

Applicants: Southern Company Services, Inc.

Description: Southern Company Services Inc. agent for Alabama Power Co. et al. submits its response to FERC's March 8, 2006 deficiency letter.

Filed Date: April 7, 2006.

Accession Number: 20060417-0189.

Comment Date: 5 p.m. Eastern Time on Friday, April 28, 2006.

Docket Numbers: ER06-576-001.

Applicants: Southern Company Services, Inc.

Description: Southern Company Services Inc. agent for Alabama Power C.o et al. submits its response to FERC's March 8, 2006 deficiency letter.

Filed Date: April 7, 2006.

Accession Number: 20060417-0191.

Comment Date: 5 p.m. Eastern Time on Friday, April 28, 2006.

Docket Numbers: ER06-843-000.

Applicants: Northeast Utilities Service Company.

Description: Northeast Utilities Service Company submits a notice of Cancellation of Service Agreement 8 for Firm Transmission Service with Unitil Power Corp.

Filed Date: April 11, 2006.

Accession Number: 20060417-0185.

Comment Date: 5 p.m. Eastern Time on Tuesday, May 2, 2006.

Docket Numbers: ER06-847-000; ER05-1235-001.

Applicants: MidAmerican Energy Company.

Description: MidAmerican Energy Co submits First Revised Sheet 497 et al. to Electric Tariff, Second Revised Volume 8 to their OATT in compliance with FERC's December 16, 2005 order.

Filed Date: April 7, 2006.

Accession Number: 20060417-0216.

Comment Date: 5 p.m. Eastern Time on Friday, April 28, 2006.

Docket Numbers: ER06-848-000.

Applicants: Appalachian Power Company.

Description: AEP on behalf of Appalachian Power Co submits a cost-based formula rate agreement for full requirements electric service between AEP Service Corp and Black Diamond Power Co et al.

Filed Date: April 6, 2006.

Accession Number: 20060417-0183.

Comment Date: 5 p.m. Eastern Time on Tuesday, April 25, 2006.

Docket Numbers: ER06-849-000.

Applicants: Midwest Independent Transmission System Operator, Inc.

Description: Midwest Independent Transmission System Operator Inc. submits the proposed revisions to Attachment L (Credit Policy) of its Open Access Transmission and Energy Markets Tariff, et al.

Filed Date: April 7, 2006.

Accession Number: 20060417-0184.

Comment Date: 5 p.m. Eastern Time on Friday, April 28, 2006.

Docket Numbers: ER06-850-000.

Applicants: Northeast Utilities Service Company.

Description: Northeast Utilities Service Co. submits a Notice of Cancellation of NU Companies Service Agreement 16 under ISO New England's Electric Tariff 3 Attachment E, Schedule 21-NU.

Filed Date: April 6, 2006.

Accession Number: 20060417-0176.

Comment Date: 5 p.m. Eastern Time on Thursday, April 27, 2006.

Docket Numbers: ER06-851-000.

Applicants: Northeast Utilities Service Company.

Description: Northeast Utilities Service Co. submits a Notice of Cancellation of NU Companies Service Agreement 22 under ISO New England's Electric Tariff 3 Attachment E, Schedule 21-NU.

Filed Date: April 6, 2006.

Accession Number: 20060417-0177.

Comment Date: 5 p.m. Eastern Time on Thursday, April 27, 2006.

Docket Numbers: ER06-852-000.

Applicants: Northeast Utilities Service Company.

Description: Northeast Utilities Services Co. submits a notice of cancellation of NU Companies Services Agreement 17 under ISO New England's Electric Tariff 3 Attachment E, Schedule 21-NU.

Filed Date: April 6, 2006.

Accession Number: 20060417-0178.

Comment Date: 5 p.m. Eastern Time on Thursday, April 27, 2006.

Docket Numbers: ER06-853-000.

Applicants: Northeast Utilities Service Company.

Description: Northeast Utilities Services Co. submits s a notice of cancellation of NU Companies Service Agreement 28, 29 & 30 under ISO New England's Electric Tariff 3 Attachment E, Schedule 21-NU.

Filed Date: April 6, 2006.

Accession Number: 20060417-0179.

Comment Date: 5 p.m. Eastern Time on Thursday, April 27, 2006.

Docket Numbers: ER06-854-000.

Applicants: Northeast Utilities Service Company.

Description: Northeast Utilities Service Co. submits a notice of cancellation of NU Companies Service Agreement 19 under ISO New England Inc. Electric Tariff No. 3 Attachment E, Schedule 21-NU.

Filed Date: April 6, 2006.

Accession Number: 20060417-0180.

Comment Date: 5 p.m. Eastern Time on Thursday, April 27, 2006.

Docket Numbers: ER06-855-000.

Applicants: Northeast Utilities Service Company.

Description: Northeast Utilities Service Co. submits a notice of cancellation of NU Companies Service Agreements 24 & 25 under ISO New England's Electric Tariff No. 3 Attachment E. Schedule 21-NU.

Filed Date: April 6, 2006.

Accession Number: 20060417-0181.

Comment Date: 5 p.m. Eastern Time on Thursday, April 27, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-6053 Filed 4-21-06; 8:45 am]

BILLING CODE 6717-01-P